DEPARTMENT OF HOMELAND SECURITY

Coast Guard

33 CFR Parts 1, 3, 67, 72, 80, 100, 107, 110, 117, 141, 147, 151, 153, 162, and 165

46 CFR Parts 4, 42, and 401

[Docket No. USCG-2025-0716]

Renaming of U.S. Coast Guard Districts

AGENCY: Coast Guard, Department of Homeland Security (DHS).

ACTION: Final rule.

SUMMARY: The Coast Guard is updating its regulations to reflect the renaming of the Coast Guard districts from numerical to geographic designations.

DATES: This finale rule is effective October 2, 2025.

ADDRESSES: To view documents mentioned in this preamble as being available in the docket, go to www.regulations.gov, type USCG-2025-0716 in the search box, and click “Search.” Next, in the Document Type column, select “Supporting & Related Material.”

FOR FURTHER INFORMATION CONTACT: For information about this document call or email Mr. Timothy Brown, Coast Guard; telephone 202-372-2358, email Timothy.M.Brown@uscg.mil.

SUPPLEMENTARY INFORMATION:

Table of Contents for Preamble

I. Abbreviations

II. Purpose and Legal Basis

III. Background

IV. Discussion of Final Rule

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Environment

I. Abbreviations

ALCOAST All Coast Guard Message

CATEX Categorical Exclusion

CFR Code of Federal Regulations

DHS Department of Homeland Security

FR Federal Register

OMB Office of Management and Budget

RA Regulatory analysis

§ Section

U.S.C. United States Code

II. Purpose and Legal Basis

The purpose of this rule is to update the Coast Guard's chapters in the Code of Federal Regulations (CFR) to reflect the renaming of our districts. This is a conforming amendment regarding the Coast Guard's organization.

This final rule is issued under the authority of 5 United States Code (U.S.C.) 552(a) and 553; 14 U.S.C. 102, 503, and 504; and Department of Homeland Security (DHS) Delegation No. 00170.1(II)(23) Revision No. 01.4. As explained in 33 CFR 1.05-1(h), the Chief of the Coast Guard's Office of Regulations and Administrative Law has been delegated authority to issue regulations necessary to implement technical, organizational, and conforming amendments and corrections to regulations.

We did not publish a notice of proposed rulemaking before this final rule. The Coast Guard finds that this rule is exempt from notice and comment rulemaking requirements under 5 U.S.C. 553(b)(A) because the district renaming is a conforming amendment involving agency organization. Updating the district names in the CFR imposes no substantive changes on the public's rights or obligations and will be inconsequential in impact.

The Coast Guard finds good cause exists under 5 U.S.C. 553(d)(3) to make the rule effective fewer than 30 days after publication in the Federal Register. Delaying the effective date of the rule is unnecessary because updating the district name we use in our regulations is inconsequential to the public and the name has already been adopted by the Coast Guard in agency practice.

III. Background

The Coast Guard announced the renaming of the districts in a message, ALCOAST 305/25, “Force Design 2028—Renaming Coast Guard Districts” on July 3, 2025. A copy of the ALCOAST is available in the docket under the ADDRESSES section of this preamble. As explained in the ALCOAST, when the Coast Guard operated as part of the Navy during World War II it adopted the Navy's numbered district system to ensure alignment between the services. In the 80 years since the end of World War II, the Coast Guard has maintained its numbered districts. However, the Navy stopped using numbered districts over 25 years ago. Renaming Coast Guard districts to reflect their geographical location will help the public and maritime stakeholders easily find and understand which Coast Guard district they live, boat, and operate in. In the ALCOAST we explained the name change will not impact operations or change existing geographical district boundaries. The ALCOAST also stated we would change district names in the CFR in coming months.

IV. Discussion of Final Rule

This final rule updates the CFR to reflect the renaming of Coast Guard operational districts from numerical to geographic names. The geographic names more clearly align districts with their areas of responsibility, improve collaboration with interagency partners, and ensure the public and maritime stakeholders can easily find and understand the districts in which they live, recreate, and operate.

The new geographic names are as follows:

Previous numerical district name | New geographical district name
District 1 | USCG Northeast District.
District 5 | USCG East District.
District 7 | USCG Southeast District.
District 8 | USCG Heartland District.
District 9 | USCG Great Lakes District.
District 11 | USCG Southwest District.
District 13 | USCG Northwest District.
District 14 | USCG Oceania District.
District 17 | USCG Arctic District.

The Coast Guard periodically issues technical, organizational, and conforming amendments to existing regulations. These conforming amendments provide the public with accurate and current regulatory information but do not change the effect of any Coast Guard regulations on the public.

This rule also revises the authority citations in several parts of the CFR solely to update the DHS Delegation No. 00170.1 to the most current revision number 01.4.

V. Regulatory Analyses

We developed this rule after considering numerous statutes and Executive orders related to rulemaking. A summary of our analyses based on these statutes or Executive orders follows.

A. Regulatory Planning and Review

Executive Order 14192 (Unleashing Prosperity Through Deregulation) directs agencies to significantly reduce the private expenditures required to comply with Federal regulations and provides that “any new incremental costs associated with new regulations shall, to the extent permitted by law, be offset by the elimination of existing costs associated with at least 10 prior regulations.”

This rule is not an Executive Order 14192 regulatory action because this rule is not significant under Executive Order 12866. See OMB Memorandum M-25-20, “Guidance Implementing Section 3 of Executive Order 14192, titled `Unleashing Prosperity Through Deregulation' ” (March 26, 2025). The name change will have no substantive effect on the public. A regulatory analysis (RA) follows.

This rule involves non-substantive technical amendments and updates to internal agency practices and procedures and will not impose any additional costs. The technical amendments in this rule modify existing language in the CFR. The Coast Guard does not expect any additional costs for the public or the Federal Government because none of the technical and editorial changes included in this rule will change existing regulatory requirements. Specifically, renaming the districts to reflect their geographical location will help the public and maritime stakeholders easily find and understand which Coast Guard district they live, boat, and operate in, leading to less confusion. A summary of these amendments by numerical district name and geographical district name are presented in table 1.

Table 1—Summary of Regulatory Changes by District Number and Name
Previous numerical district name | New geographical district name | Description of changes | Economic impact
District 1 | USCG Northeast District | Editorial | No impact; editorial changes.
District 5 | USCG East District | Editorial | No impact; editorial changes.
District 7 | USCG Southeast District | Editorial | No impact; editorial changes.
District 8 | USCG Heartland District | Editorial | No impact; editorial changes.
District 9 | USCG Great Lakes District | Editorial | No impact; editorial changes.
District 11 | USCG Southwest District | Editorial | No impact; editorial changes.
District 13 | USCG Northwest District | Editorial | No impact; editorial changes.
District 14 | USCG Oceania District | Editorial | No impact; editorial changes.
District 17 | USCG Arctic District | Editorial | No impact; editorial changes.

The unquantified benefits of these non-substantive technical amendments are increased accuracy of regulatory information by removing expired or cancelled provisions that are no longer relevant. Further, these changes will improve public understanding and accessibility of Coast Guard regulations, ensuring that the public benefits from accurate regulatory text and reduced confusion.

B. Small Entities

Under the Regulatory Flexibility Act, 5 U.S.C. 601-612, we have considered whether this rule would have a significant economic impact on a substantial number of small entities. The term “small entities” comprises small businesses, not-for-profit organizations that are independently owned and operated and are not dominant in their fields, and governmental jurisdictions with populations of less than 50,000 people.

Under 5 U.S.C 604(a), a regulatory flexibility analysis is not required for this final rule because under the provision in section 553(b)(A) we were not required to publish a general notice of a proposed rulemaking. Therefore, we did not conduct a regulatory flexibility analysis for this rule.

C. Assistance for Small Entities

Under section 213(a) of the Small Business Regulatory Enforcement Fairness Act of 1996, Public Law 104-121, we want to assist small entities in understanding this final rule so that they can better evaluate its effects on them and participate in the rulemaking. The Coast Guard will not retaliate against small entities that question or complain about this rule or any policy or action of the Coast Guard.

D. Collection of Information

This rule calls for no new collection of information under the Paperwork Reduction Act of 1995, 44 U.S.C. 3501, 3520.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132.

F. Unfunded Mandates

The Unfunded Mandates Reform Act of 1995, 2 U.S.C. 1531, 1538, requires Federal agencies to assess the effects of their discretionary regulatory actions. In particular, the Act addresses actions that may result in the expenditure by a State, Local, or Tribal government, in the aggregate, or by the private sector of $100 million (adjusted for inflation) or more in any one year. Although this rule will not result in such an expenditure, we do discuss the potential effects of this rule in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988, (Civil Justice Reform), to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have Tribal implications under Executive Order 13175 (Consultation and Coordination with Indian Tribal Governments) because it will not have a substantial direct effect on one or more Indian Tribes, on the relationship between the Federal Government and Indian Tribes, or on the distribution of power and responsibilities between the Federal Government and Indian Tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Environment

We have analyzed this rule under DHS Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This final rule is categorically excluded under paragraph A3, and L54 of Appendix A, Table 1 of DHS Instruction Manual 023-01-001-01, Rev. 1. The categorical exclusion (CATEX) A3 pertains to the promulgation of rules, issuance of rulings or interpretations, and the development and publication of policies, orders, directives, notices, procedures, manuals, advisory circulars, and other guidance documents of the following nature: (a) those of a strictly administrative or procedural nature, (b) those that implement, without substantive change, statutory or regulatory requirements, (c) those that implement, without substantive change, procedures, manuals, and other guidance documents, and (d) those that interpret or amend an existing regulation without changing its environmental effect, (e) technical guidance on safety and security matters, or (f) guidance for the preparation of security plans. CATEX L54 pertains to regulations which are editorial or procedural. This final rule involves non-substantive technical, organizational, and conforming amendments to existing Coast Guard regulations for district name changes.

List of Subjects

33 CFR Part 1

Administrative practice and procedure, Authority delegations (Government agencies), Freedom of information, Penalties.

33 CFR Part 3

Organization and functions (Government agencies).

33 CFR Part 67

Continental shelf, Navigation (water), Reporting and recordkeeping requirements.

33 CFR Part 72

Government publications, Navigation (water).

33 CFR Part 80

Navigation (water), Treaties, Waterways.

33 CFR Parts 100, 165

Harbors, Marine safety, Navigation (water), Reporting and recordkeeping requirements, Security measures, Waterways.

33 CFR Part 107

Harbors, Marine safety, Maritime security, Navigation (water), Reporting and recordkeeping requirements, Security measures, Vessels, Waterways.

33 CFR Part 110

Anchorage grounds.

33 CFR Part 117

Bridges.

33 CFR Part 141

Citizenship and naturalization, Continental shelf, Employment, Reporting and recordkeeping requirements.

33 CFR Part 147

Continental shelf, Marine safety, Navigation (water).

33 CFR Part 151

Administrative practice and procedure, Oil pollution, Penalties, Reporting and recordkeeping requirements, Water pollution control.

33 CFR Part 153

Hazardous substances, Oil pollution, Reporting and recordkeeping requirements, Water pollution control.

33 CFR Part 162

Navigation (water), Waterways.

46 CFR Part 4

Administrative practice and procedure, Drug testing, Investigations, Marine safety, Nuclear vessels, Radiation protection, Reporting and recordkeeping requirements, Safety, Transportation.

46 CFR Part 42

Penalties, Reporting and recordkeeping requirements, Vessels.

46 CFR Part 401

Administrative practice and procedure, Great Lakes, Navigation (water), Penalties, Reporting and recordkeeping requirements, Seamen.

For the reasons discussed in the preamble, under the authority of 14 U.S.C. 503 and 504, the Coast Guard amends 33 CFR chapter I and 46 CFR chapters I and III as follows:

Title 33—Navigation and Navigable Waters

Chapter I [Amended]

1. Amend 33 CFR chapter I, parts 3, 67, 100, 110, 147, and 165 by removing the text “First Coast Guard” wherever it appears and adding, in its place, the text “USCG Northeast”.

2. Amend 33 CFR chapter I, parts 80, and 165 by removing the text “First District” wherever it appears, and adding, in its place, the text “USCG Northeast District”.

3. Amend 33 CFR chapter I, parts 3, 67, 100, 110, 147, and 165 by removing the text “Fifth Coast Guard” wherever it appears, and adding, in its place, the text “USCG East”.

4. Amend 33 CFR chapters I, parts 3, 67, 100, 107, 117, and 165 by removing the text “Seventh Coast Guard” wherever it appears, and adding, in its place, the text “USCG Southeast”.

5. Amend 33 CFR chapter I, parts 3, 67, 100, 110, 147, 162, and 165 by removing the text “Eighth Coast Guard” wherever it appears, and adding, in its place, the text “USCG Heartland”.

6. Amend 33 CFR chapter I, parts 3, 80, 141, and 165 by removing the text “Eighth District” wherever it appears, and adding, in its place, the text “USCG Heartland District”.

7. Amend 33 CFR chapter I, parts 3, 67, 100, 162, and 165 by removing the text “Ninth Coast Guard” wherever it appears, and adding, in its place, the text “USCG Great Lakes”.

8. Amend 33 CFR chapter I, parts 151, and 165 by removing the text “Ninth District” wherever it appears, and adding, in its place, the text “USCG Great Lakes District”.

9. Amend 33 CFR chapter I, parts 3, 67, 100, 147, 162, and 165 by removing the text “Eleventh Coast Guard” wherever it appears, and adding, in its place, the text “USCG Southwest”.

10. Amend 33 CFR chapter I, parts 80 and 110 by removing the text “Eleventh District” wherever it appears, and adding, in its place, the text “USCG Southwest District”.

11. Amend 33 CFR chapter I, parts 3, 67, 100, 162, and 165 by removing the text “Thirteenth Coast Guard” wherever it appears, and adding, in its place, the text “USCG Northwest”.

12. Amend 33 CFR chapter I, parts 80 and 100 by removing the text “Thirteenth District” wherever it appears, and adding, in its place, the text “USCG Northwest District”.

13. Amend 33 CFR chapter I, parts 3, 100, and 165 by removing the text “Fourteenth Coast Guard” wherever it appears, and adding, in its place, the text “USCG Oceania”.

14. Amend 33 CFR chapter I, parts 1, 3, 67, 100, and 165 by removing the text “Seventeenth Coast Guard” wherever it appears and adding, in its place, the text “USCG Arctic”.

PART 3—COAST GUARD AREAS, DISTRICTS, SECTORS, MARINE INSPECTION ZONES, AND CAPTAIN OF THE PORT ZONES

15. The authority citation for part 3 is revised to read as follows:

Authority: 14 U.S.C. 501, 504; Pub. L. 107-296, 116 Stat. 2135; Department of Homeland Security Delegation No. 00170.1, Revision No. 01.4.

§ 3.04-1 [Amended]

16. In § 3.04-1 amend paragraphs (b) and (c)(1) by removing the text “First, Fifth, Seventh, Eighth and Ninth” and adding, in its place, the text “USCG Northeast, USCG East, USCG Southeast, USCG Heartland, and USCG Great Lakes”;

§ 3.04-3 [Amended]

17. In § 3.04-3 amend paragraph (b) by removing the text “Eleventh, Thirteenth, Fourteenth, and Seventeenth” and add, in its place, the text “USCG Southwest, USCG Northwest, USCG Oceania, and Arctic”;

§ 3.05-1 [Amended]

18. In § 3.05-1 amend the section heading by removing the text “First district” and add, in its place, the text “USCG Northeast District”;

§ 3.25-1 [Amended]

19. Amend § 3.25-1 as follows:

a. In the section heading, remove the text “Fifth district” and add, in its place, the text “USCG East District”;

b. In paragraph (b):

i. Remove the text “First and Fifth” and add, in its place, the text “USCG Northeast and USCG East”; and

ii. Remove the text “between the Fifth” and add, in its place, the text “between the USCG East”; and

iii. Remove the text “end of the Fifth and Seventh” and add, in its place, the text “end of the USCG East and USCG Southeast”;

§ 3.35-1 [Amended]

20. Amend § 3.35-1 in the section heading, by removing the text “Seventh district” and add, in its place, the text “USCG Southeast District”;

§ 3.40-1 [Amended]

21. Amend § 3.40-1 in the section heading, by removing the text “Eighth district” and add, in its place, the text “USCG Heartland District”;

§ 3.45-1 [Amended]

22. Amend § 3.45-1 in the section heading, remove the text “Ninth district” and add, in its place, the text “USCG Great Lakes District”;

§ 3.55-1 [Amended]

23. In § 3.55-1 header, remove the text “Eleventh district” and add, in its place, the text “USCG Southwest District”;

§ 3.65-1 [Amended]

24. Amend § 3.65-1 in the section heading, remove the text “Thirteenth district” and add, in its place, the text “USCG Northwest District”;

§ 3.70-1 [Amended]

25. Amend § 3.70-1 in the section heading, remove the text “Fourteenth district” and add, in its place, the text “USCG Oceania District”;

§ 3.85-1 [Amended]

26. Amend § 3.85-1 in the section heading, remove the text “Seventeenth district” and add, in its place, the text “USCG Arctic District”; and

§ 3.85-10 [Amended]

27. In § 3.85-10, remove the text “Coast Guard District Seventeen” and add, in its place, the text “USCG Arctic District”.

PART 72—MARINE INFORMATION

28. The authority citation for part 72 is revised to read as follows:

Authority: 14 U.S.C. 503, 544; 43 U.S.C. 1333; Department of Homeland Security Delegation No. 00170.1, Revision No. 01.4.

§ 72.01-10 [Amended]

29. In § 72.01-10 amend paragraph (a)(2) by removing the text “1st, 5th, 7th, 8th, 9th, 11th, 13th, 14th, and 17th Coast Guard districts” and adding, in its place, the text “USCG Northeast, East, Southeast, Heartland, Great Lakes, Southwest, Northwest, Oceania, and Arctic Districts”.

PART 80 [AMENDED]

30. The authority citation continues to read as follows:

Authority: 14 U.S.C. 102, 503; 33 U.S.C. 151(a).

31. Amend part 80 as follows:

a. Remove the text “Fifth District” wherever it appears, and add, in its place, the text “USCG East District”;

b. Remove the Text “Seventh District” wherever it appears, and add, in its place, the text “USCG Southeast District”;

c. Remove the text “Fourteenth District” wherever it appears, and add, in its place, the text “USCG Oceania District”; and

d. Remove the text “Seventeenth District” wherever it appears, and add, in its place, the text “USCG Arctic District”.

PART 100—SAFETY OF LIFE ON NAVIGABLE WATERS

32. The authority citation for part 100 continues to read as follows:

Authority: 46 U.S.C. 70041; 33 CFR 1.05-1.

§ 100.35 [Amended]

33. In § 100.35 amend paragraph (d) by removing the text “First, Fifth, Seventh, Eighth, Ninth, Eleventh, Thirteenth, Fourteenth, and Seventeenth Districts” and adding, in its place, the text “USCG Northeast, East, Southeast, Heartland, Great Lakes, Southwest, Northwest, Oceania, and Arctic Districts”.

§ 100.130 [Amended]

34. In § 100.130 amend table 1 by removing the text “USCG District 1” wherever it appears, and adding, in its place, the text “USCG Northeast District”.

§ 100.1701 [Amended]

35. In § 100.1701 amend paragraph (d) by removing the text “Seventeenth District” and adding, in its place, the text “USCG Arctic District”.

PART 107 [AMENDED]

36. The authority citation for part 107 is revised to read as follows:

Authority: 14 U.S.C. 701; 46 U.S.C. 70051, 70052, 70053; Presidential Proclamation 6867, 61 FR 8843, 3 CFR, 1996 Comp., p. 8; Presidential Proclamation 7757, 69 FR 9515 (March 1, 2004); Secretary of Homeland Security Order 2004-001; Department of Homeland Security Delegation No. 00170.1, Rev. 01.4; and 33 CFR 1.05-1.

37. Amend part 107 by removing the text “Seventh District” wherever it appears, and adding, in its place, the text “USCG Southeast District”.

PART 110—ANCHORAGE REGULATIONS

38. The authority citation for part 110 is revised to read as follows:

Authority: 33 U.S.C. 2071; 46 U.S.C. 70006, 70034; 33 CFR 1.05-1; Department of Homeland Security Delegation No. 00170.1, Revision No. 01.4.

§ 110.220 [Amended]

39. In § 110.220 amend paragraph (b)(2) by removing the text “Coast Guard”.”

PART 153—CONTROL OF POLLUTION BY OIL AND HAZARDOUS SUBSTANCES, DISCHARGE REMOVAL

40. The authority citation for part 153 is revised to read as follows:

Authority: 14 U.S.C. 503; 33 U.S.C. 1321, 1903, 1908; 42 U.S.C. 9615; 46 U.S.C. 6101; E.O. 12580, 3 CFR, 1987 Comp., p. 193; E.O. 12777, 3 CFR, 1991 Comp., p. 351; Department of Homeland Security Delegation No. 00170.1, Revision No. 01.4.

§ 153.205 [Amended]

41. Amend § 153.205 as follows:

a. Remove the text “1st” wherever it appears and add, in its place, the text “USCG Northeast District”;

b. Remove the text “5th” wherever it appears and add, in its place, the text “USCG East District”;

c. Remove the text “7th” wherever it appears and add, in its place, the text “USCG Southeast District”;

d. Remove the text “8th” wherever it appears and add, in its place, the text “USCG Heartland District”;

e. Remove the text “9th” wherever it appears and add, in its place, the text “USCG Great Lakes District”;

f. Remove the text “11th” wherever it appears and add, in its place, the text “USCG Southwest District”;

g. Remove the text “13th” wherever it appears and add, in its place, the text “USCG Northwest District”;

h. Remove the text “14th” wherever it appears and add, in its place, the text “USCG Oceania District”; and

i. Remove the text “17th” wherever it appears and add, in its place, the text “USCG Arctic District”.

PART 165—REGULATED NAVIGATION AREAS AND LIMITED AREAS

42. The authority citation for part 165 continues to read as follows:

Authority: 46 U.S.C. 70034, 70051, 70124; 33 CFR 1.05-1, 6.04-1, 6.04-6, and 160.5; Department of Homeland Security Delegation No. 00170.1, Revision No. 01.4.

§ 165.118 [Amended]

43. In § 165.118 amend table 1 by removing the text “USCG District 1” wherever it appears, and adding, in its place, the text “USCG Northeast District”.

§ 165.151 [Amended]

44. In § 165.151 amend paragraphs (g) and (h) by removing the text “USCG First District” and replace with “USCG Northeast District.

§ 165.160 [Amended]

45. In § 165.160 amend paragraph (d) by removing the text “USCG First District” and replace with “USCG Northeast District”.

§ 165.164 [Amended]

46. In § 165.164 amend paragraph (c) by removing the text “Coast Guard's First District Commander” and replace with “Coast Guard's Northeast District Commander” .

§ 165.171 [Amended]

47. In § 165.171 amend paragraph (g) by removing the text “USCG First District” and replace with “USCG Northeast District”.

§ 165.T24-0393 [Amended]

48. In § 165.T24-0393 amend paragraph (e) by removing the text “Coast Guard District 9” and adding, in its place, the text “USCG Great Lakes District”.

§ 165.2025 [Amended]

49. In § 165.2025 amend paragraph (a) and Note to paragraph (a) by removing the text “First, Fifth, Seventh, Eighth and Ninth U.S. Coast Guard Districts” and adding, in its place the text “USCG Northeast, East, Southeast, Heartland, and Great Lakes Districts”.

§ 165.2030 [Amended]

50. In § 165.2030 amend paragraph (a) and Note to paragraph (a) by removing the text “Eleventh, Thirteenth, Fourteenth, and Seventeenth U.S. Coast Guard Districts” and adding, in its place, the text “USCG Southwest, Northwest, Oceania, and Arctic Districts”.

Title 46—Shipping

PART 4—MARINE CASUALTIES AND INVESTIGATIONS

51. The authority citation for part 4 is revised to read as follows:

Authority: 14 U.S.C. 102; 43 U.S.C. 1333; 46 U.S.C. 2103, 2303A, 2306, 6101, 6301, 6305, 70034; 50 U.S.C. 198; DHS Delegation 00170.1, Revision No. 01.4, issued under 49 U.S.C. 1131(a)(1)(E).

§ 4.07-10 [Amended]

52. In § 4.07-10 amend paragraph (b) by removing the text “Fourteenth Coast Guard” wherever it appears, and adding, in its place, the text “USCG Oceania”.

PART 42—DOMESTIC AND FOREIGN VOYAGES BY SEA

53. The authority citation is revised to read as follows:

Authority: 46 U.S.C. 5101-5116; Department of Homeland Security Delegation No. 00170.1, Revision No. 01.4; section 42.01-5 also issued under the authority of 44 U.S.C. 3507.

§ 42.07-45 [Amended]

54. In § 42.07-45 amend paragraph (d)(2) by removing the text “Ninth Coast Guard” and adding, in its place, the text “USCG Great Lakes”.

PART 401—GREAT LAKES PILOTAGE REGULATIONS

55. The authority citation for part 401 continues to read as follows:

Authority: 46 U.S.C. 2103, 2104(a), 6101, 7701, 8105, 9303, 9304; DHS Delegation No. 00170.1, Revision No. 01.4, paragraphs (II)(92)(a), (d), (e), (f).

§ 401.510 [Amended]

56. In § 401.510 amend paragraph (b) introductory text by removing the text “9th Coast Guard” and adding, in its place, the text “USCG Great Lakes”.

Dated: September 30, 2025.
Michael T. Cunningham,
Chief, Office of Regulations and Administrative Law.

[FR Doc. 2025-19282 Filed 10-1-25; 8:45 am]

BILLING CODE 9110-04-P